ENVIRONMENTAL PROTECTION AGENCY

[FRL-8779-3]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, EPA, at (228) 688-2421 or car.gloria@epa.gov. To request accommodation of a disability, please contact Gloria Car, preferably at least 10 days prior to the meeting, to give EPA as much time as possible to process your request.

DATES: The meeting will be held on Wednesday, April 1, 2009, from 10 a.m. to 3:30 p.m. and Thursday, April 2, 2009, from 9 a.m. to 2:30 p.m.

ADDRESSES: The meeting will be held at Building 1100, Gainesville Room, Stennis Space Center, MS 39529.

FOR FURTHER INFORMATION CONTACT: Gloria D. Car, Designated Federal Officer, Gulf of Mexico Program Office, Mail Code EPA/GMPO, Stennis Space Center, MS 39529 (228) 688-2421.

SUPPLEMENTARY INFORMATION: The proposed agenda includes the following topics: Gulf of Mexico Program's 2009 Priorities; Gulf of Mexico Alliance Governors' Action Plan II Overview; Gulf of Mexico Program 2008 Accomplishments Report; and Citizens Advisory Committee Report.

Dated: March 2, 2009.
Gloria D. Car,
Designated Federal Officer.

[FR Doc. E9-4887 Filed 3-6-09; 8:45 am]

BILLING CODE 6560-50-P